DEPARTMENT OF HOMELAND SECURITY

Coast Guard

33 CFR Part 117

[Docket No. USCG-2018-0434]

Drawbridge Operation Regulation; Dutch Kills, Queens, NY

AGENCY: Coast Guard, DHS.

ACTION: Notice of deviation from drawbridge regulation.

SUMMARY: The Coast Guard has issued a temporary deviation from the operating schedule that governs the Borden Avenue Bridge across Dutch Kills, mile 1.2, at Queens, NY. The deviation is necessary to facilitate bridge repairs. This temporary deviation allows the bridge to remain in the closed-to-navigation position during bridge repairs.

DATES: This deviation is effective without actual notice from October 16, 2018 to 11:59 p.m. on November 17, 2018. For enforcement purposes, actual notice will be used will be used from 12:01 a.m. on September 28, 2018 to October 16, 2018.

ADDRESSES: The docket for this deviation, USCG-2018-0434 is available at http://www.regulations.gov. Type the docket number in the “SEARCH” box and click “SEARCH”. Click on Open Docket Folder on the line associated with this deviation.

FOR FURTHER INFORMATION CONTACT: If you have questions on this temporary deviation, call or email Stephanie E. Lopez, Bridge Management Specialist, First District Bridge Branch, U.S. Coast Guard; telephone 212-514-4335, email Stephanie.E.Lopez@uscg.mil.

SUPPLEMENTARY INFORMATION:

The owner of the bridge, the New York City Department of Transportation, requested a temporary deviation to facilitate punch list work involving the Borden Avenue Bridge control house roof repairs. The Borden Avenue Bridge across Dutch Kills, Queens, has a vertical clearance in the closed position of 4 feet at mean high water and 9 feet at mean low water. The existing bridge operating regulations are found at 33 CFR 117.801(c).

This temporary deviation allows the Borden Avenue Bridge to stay in the closed position from 12:01 a.m. on September 28, 2018 to 11:59 p.m. on November 17, 2018. At no time can the bridge open to marine traffic. No one has signaled to request that this bridge open to marine traffic since December 15, 2014. The bridge will not be able to open for emergencies and there is no immediate alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: October 11, 2018.
C.J. Bisignano,
Supervisory Bridge Management Specialist, First Coast Guard District.

[FR Doc. 2018-22448 Filed 10-15-18; 8:45 am]

BILLING CODE 9110-04-P